DEPARTMENT OF ENERGY

Federal Energy Regulatory Commission

Combined Notice of Filings #1

Take notice that the Commission received the following electric corporate filings:

Docket Numbers: EC18-119-000.

Applicants: NextEra Energy, Inc., 700 Universe, LLC, Southern Company—Florida LLC, Oleander Power Project, Limited Partnership.

Description: Errata to July 3, 2018 Joint Application for Authorization Under Section 203 of the Federal Power Act of NextEra Energy, Inc., et. al.

Filed Date: 8/3/18.

Accession Number: 20180803-5046.

Comments Due: 5 p.m. ET 9/4/18.

Docket Numbers: EC18-131-000.

Applicants: Oleander Power Project, Limited Partnership, Power Holdings, LLC.

Description: Application Under Section 203 of the Federal Power Act of Oleander Power Project, et al.

Filed Date: 8/3/18.

Accession Number: 20180803-5044.

Comments Due: 5 p.m. ET 8/24/18.

Take notice that the Commission received the following exempt wholesale generator filings:

Docket Numbers: EG18-118-000.

Applicants: Whalley Computer Associates, Inc.

Description: Self-Certification of EG or FC of Whalley Computer Associates, Inc.

Filed Date: 8/2/18.

Accession Number: 20180802-5109.

Comments Due: 5 p.m. ET 8/23/18.

Take notice that the Commission received the following electric rate filings:

Docket Numbers: ER18-1222-003.

Applicants: PSEG Energy Resources & Trade LLC.

Description: Compliance filing: Informational Filing KEC Effective Date to be effective 7/4/2018.

Filed Date: 8/2/18.

Accession Number: 20180802-5018.

Comments Due: 5 p.m. ET 8/23/18.

Docket Numbers: ER18-2115-001.

Applicants: Wisconsin Public Service Corporation.

Description: Tariff Amendment: Amendment to Reactive Power Rate Filing to be effective 10/1/2018.

Filed Date: 8/3/18.

Accession Number: 20180803-5068.

Comments Due: 5 p.m. ET 8/24/18.

Docket Numbers: ER18-2118-000; ER18-2003-000;ER18-2066-000; ER18-2067-000;ER18-1981-000; ER18-2032-000.

Applicants: Armadillo Flats Wind Project, LLC, Lorenzo Wind, LLC, Minco Wind IV, LLC, Minco Wind V, LLC, Pratt Wind, LLC, Wildcat Ranch Wind Project, LLC.

Description: Supplement to July 31, 2018 et al. Armadillo Flats Wind Project, LLC tariff filing, et al.

Filed Date: 8/1/18.

Accession Number: 20180801-5195.

Comments Due: 5 p.m. ET 8/22/18.

Docket Numbers: ER18-2142-000.

Applicants: Summer Solar LLC.

Description: § 205(d) Rate Filing: Shared Facilities Agreement to be effective 8/16/2018.

Filed Date: 8/2/18.

Accession Number: 20180802-5099.

Comments Due: 5 p.m. ET 8/23/18.

Docket Numbers: ER18-2143-000.

Applicants: Big Sky North, LLC.

Description: Baseline eTariff Filing: Shared Facilities Agreement to be effective 8/16/2018.

Filed Date: 8/2/18.

Accession Number: 20180802-5112.

Comments Due: 5 p.m. ET 8/23/18.

Docket Numbers: ER18-2145-000.

Applicants: Southwest Power Pool, Inc.

Description: § 205(d) Rate Filing: 1067R9 East Texas Electric Cooperative NITSA and NOA to be effective1/1/2018.

Filed Date: 8/3/18.

Accession Number: 20180803-5043.

Comments Due: 5 p.m. ET 8/24/18.

Docket Numbers: ER18-2146-000.

Applicants: E. I. du Pont de Nemours and Company.

Description: § 205(d) Rate Filing: Revisions to Market-Based Rate Tariff to be effective 10/3/2018.

Filed Date: 8/3/18.

Accession Number: 20180803-5067.

Comments Due: 5 p.m. ET 8/24/18.

Docket Numbers: ER18-2147-000.

Applicants: Bayshore Solar C, LLC.

Description: § 205(d) Rate Filing: Bayshore Solar C, LLC Amended SFA to be effective 8/16/2018.

Filed Date: 8/3/18.

Accession Number: 20180803-5072.

Comments Due: 5 p.m. ET 8/24/18.

Docket Numbers: ER18-2148-000.

Applicants: Bayshore Solar A, LLC.

Description: § 205(d) Rate Filing: Bayshore Solar A, LLC Amended SFA to be effective 8/16/2018.

Filed Date: 8/3/18.

Accession Number: 20180803-5074.

Comments Due: 5 p.m. ET 8/24/18.

Docket Numbers: ER18-2149-000.

Applicants: Bayshore Solar B, LLC.

Description: § 205(d) Rate Filing: Bayshore Solar B, LLC Amended SFA to be effective 8/16/2018.

Filed Date: 8/3/18.

Accession Number: 20180803-5075.

Comments Due: 5 p.m. ET 8/24/18.

Docket Numbers: ER18-2150-000.

Applicants: Antelope Big Sky Ranch LLC.

Description: § 205(d) Rate Filing: Antelope Big Sky Ranch LLC Amended SFA to be effective 8/16/2018.

Filed Date: 8/3/18.

Accession Number: 20180803-5081.

Comments Due: 5 p.m. ET 8/24/18.

Docket Numbers: ER18-2151-000.

Applicants: Antelope DSR 1, LLC.

Description: § 205(d) Rate Filing: Antelope DSR 1, LLC Amended SFA to be effective 8/16/2018.

Filed Date: 8/3/18.

Accession Number: 20180803-5089.

Comments Due: 5 p.m. ET 8/24/18.

Docket Numbers: ER18-2152-000.

Applicants: Antelope DSR 2, LLC.

Description: § 205(d) Rate Filing: Antelope DSR 2, LLC Amended SFA to be effective 8/16/2018.

Filed Date: 8/3/18.

Accession Number: 20180803-5093.

Comments Due: 5 p.m. ET 8/24/18.

Docket Numbers: ER18-2153-000.

Applicants: Antelope DSR 3, LLC.

Description: § 205(d) Rate Filing: Antelope DSR 3, LLC Amended SFA to be effective 8/16/2018.

Filed Date: 8/3/18.

Accession Number: 20180803-5094.

Comments Due: 5 p.m. ET 8/24/18.

Docket Numbers: ER18-2154-000.

Applicants: Elevation Solar C LLC.

Description: § 205(d) Rate Filing: Elevation Solar C LLC Amended SFA to be effective 8/16/2018.

Filed Date: 8/3/18.

Accession Number: 20180803-5095.

Comments Due: 5 p.m. ET 8/24/18.

Docket Numbers: ER18-2155-000.

Applicants: Solverde 1, LLC.

Description: § 205(d) Rate Filing: Solverde 1, LLC Amended SFA to be effective 8/16/2018.

Filed Date: 8/3/18.

Accession Number: 20180803-5096.

Comments Due: 5 p.m. ET 8/24/18.

Docket Numbers: ER18-2156-000.

Applicants: Western Antelope Blue Sky Ranch B LLC.

Description: § 205(d) Rate Filing: Western Antelope Blue Sky Ranch B LLC Amended SFA to be effective8/16/2018.

Filed Date: 8/3/18.

Accession Number: 20180803-5097.

Comments Due: 5 p.m. ET 8/24/18.

Docket Numbers: ER18-2157-000.

Applicants: Mid-Atlantic Interstate Transmission, LLC, PJM Interconnection, L.L.C.

Description: § 205(d) Rate Filing: MAIT submits ECSAs, SA Nos. 4969, 4970, 4973, 4974 to be effective 10/5/2018.

Filed Date: 8/3/18.

Accession Number: 20180803-5098.

Comments Due: 5 p.m. ET 8/24/18.

Docket Numbers: ER18-2158-000.

Applicants: Stillwater Wind, LLC.

Description: Baseline eTariff Filing: Application for Market-Based Rate Authority to be effective 8/6/2018.

Filed Date: 8/3/18.

Accession Number: 20180803-5112.

Comments Due: 5 p.m. ET 8/24/18.

Docket Numbers: ER18-2159-000.

Applicants: Crazy Mountain Wind LLC.

Description: Baseline eTariff Filing: Application for Market-Based Rate Authority to be effective 8/6/2018.

Filed Date: 8/3/18.

Accession Number: 20180803-5113.

Comments Due: 5 p.m. ET 8/24/18.

Docket Numbers: ER18-2160-000.

Applicants: Wisconsin Power and Light Company.

Description: § 205(d) Rate Filing: Concurrence to WEPCo and WPL Balancing Area Operations Coordination Agreement to be effective 10/2/2018.

Filed Date: 8/3/18.

Accession Number: 20180803-5118.

Comments Due: 5 p.m. ET 8/24/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2018.
Nathaniel J. Davis, Sr.,
Deputy Secretary.

[FR Doc. 2018-17030 Filed 8-8-18; 8:45 am]

BILLING CODE 6717-01-P